DEPARTMENT OF THE INTERIOR

Bureau of Indian Affairs

Distribution of Fiscal Year 2000 Contract Support Funds

AGENCY: Bureau of Indian Affairs, Interior.

ACTION: Notice of method of distribution and use of Fiscal Year 2000 Contract Support Funds.

SUMMARY: The purpose of this notice is to issue the Bureau of Indian Affairs' (BIA) administrative instructions for the implementation of Public Law 93-638, as amended. These administrative instructions are designed to provide BIA personnel with assistance in carrying out their responsibilities when distributing Contract Support Funds (CSF). These instructions are not regulations establishing program requirements.

DATES: The CSF Needs Report for ongoing/existing contracts and annual funding agreements are due on July 15, 2000. The CSF Needs Reports for new and expanded contracts and annual funding agreements are due periodically throughout the year as the need arises. All new and expanded contracts and annual funding agreements starting between October 1, 1999 and January 1, 2000 will be considered to have a January 1, 2000 start date.

ADDRESSES: Bureau of Indian Affairs, Office of Tribal Services, Division of Self-Determination Services, 1849 C Street, NW, MS-2526-MIB, Washington, DC 20240.

FOR FURTHER INFORMATION CONTACT: Jim Thomas, (202) 208-5727.

SUPPLEMENTARY INFORMATION: A total of $125,229,000 is available for contract support requirements (excluding construction requirements) during Fiscal Year (FY) 2000. Congressional language authorizes the use of CSF ($120,229,000) available in FY 2000 to pay costs of ongoing/existing self-determination and self-governance awards for programs under contract/compact prior to FY 2000 and $5,000,000 for the Indian Self-Determination Fund (ISD) to be utilized for new and expanded contracts/compacts. Each BIA Region office and the Office of Self-Governance (hereinafter Office) has the responsibility for tribes within their respective jurisdiction to work with the tribes in identifying new and expanded contracts and annual funding agreements and reporting this information to the Division of Self-Determination Services, as specified in this announcement. CSF shall be added to awards made under section 102 and Title IV of the Indian Self-Determination and Education Assistance Act, as amended. Awards made under the authority of section 103 of this Act shall not receive CSF to meet indirect costs.

Basis for Payment of CSF

The BIA may only pay indirect costs attributable to programs included in the BIA's Public Law 93-638 awards. BIA will utilize tribal indirect cost rates to determine the amount of CSF to be paid to eligible contracting tribes and tribal organizations and eligible self-governance tribes and tribal consortia. In determining legitimate indirect cost requirements each regional and self-governance director should fund only those contracting or compacting tribal organizations that have an approved indirect cost rate or indirect cost proposal currently under consideration by the Office of Inspector General. In those instances where a tribe or tribal organization has more than one approved rate or a current proposal under consideration by the Office of the Inspector General, the director should use the most current rate or a pending proposal in determining the amount to award. For those tribes who are unable to negotiate an indirect cost rate because of circumstances beyond their control (i.e., which do not have the administrative capability to negotiate a rate), area contract officers may negotiate reasonable lump sum amounts with these tribes.

Ongoing/Existing Contracts/Annual Funding Agreements—Method of Distribution

Each Office will submit CSF Needs Report to the Central Office for ongoing contracts and annual funding agreements by July 15, 2000. A final distribution of contract support will be made on or about July 31, 2000. CSF will be provided to each office from the remaining undistributed balance based on these reports. If these reports indicate that appropriations will not be sufficient to cover the entire need, the undistributed balance will be distributed pro rata, so that all contractors and compactors receive the same percentage of their reported need.

Should the amount provided for these existing contracts and annual funding agreements prove insufficient, a tribe or group of tribes may wish to reprogram funds to make up deficiencies necessary to recover full indirect costs. This tribal reprogramming authority is limited to funds from their Tribal Priority Allocation (TPA) allocation, or annual funding agreement. Congressional appropriations language does not provide authority for the BIA to reprogram funds from other Bureau programs to meet any CSF shortfalls.

For programs other than TPA, tribes are not constrained from recovering full indirect costs from within the overall program and contract support funds awarded for each program.

Each Office has been suballotted 85 percent of the total amount which was provided in FY 1999. From this amount each Office should award 75 percent of required contract support to each contract/annual funding agreement meeting the criteria established below.

All contractors and self-governance tribes/consortia with either an approved indirect cost rate, current indirect cost proposal, or FY 2000 approved lump sum amount are eligible to receive 75 percent of their CSF need with the first allotment of CSF in FY 2000. After the second allotment of CSF is made (approximately July 31, 2000) all contractors and self-governance tribes/consortia will receive their pro rata share of CSF, should appropriation be inadequate to pay full funding.

An ongoing/existing contract or annual funding agreement is defined as a BIA program operated by the tribal contractor or compactor on an ongoing basis which has been entered into prior to the current fiscal year. An increase or decrease in the level of funding from year to year for such contracts or annual funding agreements would not affect the designation of such contracts or annual funding agreements as being ongoing. An assumption of additional BIA program responsibilities would be required to trigger a change in designation.

New and Expanded Contracts/Compacts

Each Office will submit CSF Need Reports to the Central Office for new and expanded contracts and annual funding agreements periodically throughout the year as new contracts or annual funding agreements are awarded or existing contracts or annual funding agreements are expanded. Funds will be provided to the Offices as these reports are received and will be taken from the $5,000,000. These funds will be distributed on a first-come-first-served basis at 100 percent of need using the Office reports.

In the event the $5,000,000 is depleted, new or expanded contracts or annual funding agreements awarded after this fund has been exhausted will not be provided any CSF during this fiscal year. Requests received after this fund has been exhausted will be considered first for funding in the following year from funds appropriated for this purpose.

Priority of Funding for New and Expanded Contracts/Annual Funding Agreements

Contract support will be awarded from the ISD fund to all new and expanded contracts/annual funding agreements based on the start date of the award, and the application date, on a first-come-first-served basis. An Indian Self-Determination Fund “applicant roster” shall be maintained, which shall list, in order of priority, the name of the tribe or tribal organization, the name of the program, the start date, the application date, the amount of program funds, the program cost code(s), the amount of contract support funds required, and the date of approved indirect cost rate agreement or lump sum agreement.

“Start date” means the date or commencement of operation of the new or expanded portion of the contract or annual funding agreement by the tribe/consortium or tribal organization. However, because the Self-Determination Act provides that contracts/annual funding agreements will be on a calendar year basis unless otherwise provided by the tribe, any start date on or prior to January 1 of each year shall be considered a January 1 start date.

“Application date” shall be the date of the request by the tribe which includes: (1) A tribal resolution requesting a contract or annual funding agreement; (2) a summary of the program or portion thereof to be operated by the tribe/consortium or tribal organization; and (3) a summary identifying the source and amount of program or services funds to be contracted or included in an annual funding agreement and contract support requirements. In the event that two tribes or tribal organizations have the same start date and application date, then the next date for determination of priority shall be the date the fully complete application was received by the BIA.

If all of the above are equal, and if funds remaining in the ISD fund are not adequate to fill the entire amount of each award's contract support requirement, then each will be awarded a proportionate share of its requirement and shall remain on the Indian Self-Determination Fund Roster in appropriate order of priority for future distributions.

New contract/annual funding agreement is defined as the initial transfer of a program, previously operated by the BIA to the tribe/consortium or tribal organization.

An expanded contract/annual funding agreement is defined as a contract/annual funding agreement which has become enlarged, during the current fiscal year through the assumption of additional programs previously operated by the BIA.

Criteria for Determining CSF Need for Ongoing/Existing Contracts/Annual Funding Agreements

CSF for ongoing and existing contracts/annual funding agreements will be determined using the following criteria:

(1) All TPA contracted programs or those programs included in annual funding agreements in FY 1999 and continued in FY 2000, including contracted or annual funding agreement programs moved to TPA in FY 2000.

(2) Direct program funding increases due to inflation adjustments and general budget increases.

(3) TPA programs started or expanded in FY 2000 that are a result of a change in priorities from other already contracted/annual funding agreement programs.

(4) CSF differentials associated with tribally-operated schools that receive indirect costs through the application of the administrative cost grant formula. These differentials are to be calculated in accordance with the criteria prescribed in the Choctaw decision dated September 18, 1992, issued by the Contracting Officer, Eastern Region office. Copies of this decision can be obtained by calling the telephone number provided in the FOR FURTHER INFORMATION CONTACT section.

(5) CSF will be distributed to the Office of Self-Governance for ongoing annual funding agreements, on the same basis as regional offices.

(6) Funds available for Indian Child Welfare Act (ICWA) programs or reprogrammed from ICWA to other programs will be considered ongoing for the purposes of payment of contract support costs.

(7) The use of CSF to pay prior year shortfalls is not authorized.

(8) Programs funded from sources other than those listed above that were awarded in FY 1999 and are to be awarded in FY 2000 are considered as ongoing.

Dated: February 17, 2000.
Kevin Gover,
Assistant Secretary, Indian Affairs.

[FR Doc. 00-4437 Filed 2-24-00; 8:45 am]

BILLING CODE 4310-02-P